DEPARTMENT OF THE INTERIOR

National Park Service

[NPS-WASO-NRNHL-21064; PPWOCRADI0, PCU00RP14.R50000]

National Register of Historic Places; Notification of Pending Nominations and Related Actions

AGENCY: National Park Service, Interior.

ACTION: Notice.

SUMMARY: The National Park Service is soliciting comments on the significance of properties nominated before May 7, 2016, for listing or related actions in the National Register of Historic Places.

DATES: Comments should be submitted by June 9, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before May 7, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ARIZONA

Maricopa County

Adelman, Benjamin House, 5802 N. 30th St., Phoenix, 16000380

CALIFORNIA

San Mateo County

X-100, 1586 Lexington Ave., San Mateo, 16000381

GEORGIA

DeKalb County

Decatur Heights—Glennwood Estates—Sycamore Street Historic District, Roughly Bounded by Forkner Dr., Sycamore Dr., Sycamore St., and the E. boundary of Decatur Cemetery, Decatur, 16000382

ILLINOIS

Cook County

America Fore Building, 844 N. Rush St., Chicago, 16000383

IOWA

Polk County

Register and Tribune Building, 715 Locust St., Des Moines, 16000385

MINNESOTA

Hennepin County

Wayzata Bay Wreck, (Wrecks and Submerged Cultural Resources of Lake Minnetonka MPS) Address Restricted, Minnetonka, 16000386

NEW JERSEY

Cape May County

Dennisville Historic District (Boundary Increase), Roughly bounded by Gatzmer Ave., RR. tracks, NJ 47, and N. side of Petersburg Rd. and NJ 47, Dennis Township, 16000387

NEW MEXICO

McKinley County

Gallup Commercial Historic District, Roughly bounded by US 66, W. Coal Ave., S. Puerco Dr. and S. 7th St., Gallup, 16000389

Santa Fe County

Lamy Junction Archeological District, Address Restricted, Lamy, 16000388

NEW YORK

Cortland County

Crescent Corset Company, 166-177 Main St., Cortland, 16000391

Erie County

Hayes, Edmund B., Hall, 3435 Main St., Buffalo, 16000394

Lewis County

Leyden Common School No. 2, 6606 School Rd., Talcottville, 16000392

Otsego County

Vibber, Lemuel F., House, 302 Butternut Rd., Richfield, 16000393

Sullivan County

Callicoon Downtown Historic District, Main Sts, Highview & Mitchell Aves., River & Hospital Rds., Bridge St., and NY 97, Callicoon, 16000390

RHODE ISLAND

Providence County

American Brewing Company Plant, 431 Harris Ave., Providence, 16000395

SOUTH CAROLINA

Jasper County

Tillman School, 191 Cotton Hill Rd.—US 321, Tillman, 16000396

Authority: 60.13 of 36 CFR part 60.

Dated: May 10, 2016.
J. Paul Loether,
Chief, National Register of Historic Places/National Historic Landmarks Program.

[FR Doc. 2016-12271 Filed 5-24-16; 8:45 am]

BILLING CODE 4312-51-P